DEPARTMENT OF THE TREASURY

Internal Revenue Service

Open Meeting of the Small Business/Self-Employed Reducing Taxpayer Burden Payroll Taxes of the Taxpayer Advocacy Panel

AGENCY: Internal Revenue Service (IRS), Treasury.

ACTION: Notice.

SUMMARY: An open meeting of the Small Business/Self-Employed Reducing Taxpayer Burden Payroll Taxes of the Taxpayer Advocacy Panel will be conducted. The Taxpayer Advocacy Panel is soliciting public comments, ideas and suggestions on improving customer service at the Internal Revenue Service.

DATES: The meeting will be held Friday, October 3, 2003 from 1:30 p.m. e.d.t. to 5 p.m. e.d.t.

FOR FURTHER INFORMATION CONTACT: Mary Peterson O'Brien at 1-888-912-1227, or 206-220-6098.

SUPPLEMENTARY INFORMATION: Notice is hereby given pursuant to section 10(a)(2) of the Federal Advisory Committee Act, 5 U.S.C. App. (1988) that an open meeting of the Small Business/Self-Employed Reducing Taxpayer Burden Payroll Taxes of the Taxpayer Advocacy Panel will be held Friday, October 3, 2003, from 1:30 p.m. e.d.t. to 5 p.m. e.d.t. at Grand Hyatt Hotel, 1000 H Street, NW., Washington, DC. Written comments will be accepted by mail. If you would like to have the TAP consider a written statement, please call 1-888-912-1227 or 206-220-6098, or write Mary Peterson O'Brien, TAP Office, 915 Second Avenue Stop W-406, Seattle, WA 98174. Mrs. Peterson O'Brien can be reached at 1-888-912-1227 or 206-220-6098. The agenda will include various IRS issues.

Dated: September 5, 2003.
Tersheia Carter,
Acting Director, Taxpayer Advocacy Panel.

[FR Doc. 03-23475 Filed 9-12-03; 8:45 am]

BILLING CODE 4830-01-P